DEPARTMENT OF HOMELAND SECURITY

Federal Emergency Management Agency

Agency Information Collection Activities: Proposed Collection; Comment Request, 1660-0033; Residential Basement Flood Proofing Certification

[Docket ID: FEMA-2010-0011]

AGENCY: Federal Emergency Management Agency, DHS.

ACTION: Notice; 60-day notice and request for comments; revision of a currently approved information collection; OMB No. 1660-0033; FEMA Form 086-0-24, Residential Basement Floodproofing Certificate.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the certification of flood proof residential basements in Special Flood Hazard Areas.

DATES: Comments must be submitted on or before May 28, 2010.

ADDRESSES: To avoid duplicate submissions to the docket, please use only one of the following means to submit comments:

(1) Online. Submit comments at http://www.regulations.gov under docket ID FEMA-2010-0011. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2010-0011 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available via the Privacy Notice link in the footer of http://www.regulations.gov.

FOR FURTHER INFORMATION CONTACT: Contact Mary Ann Chang, Insurance Examiner, Mitigation Directorate, (202) 212-4712 for additional information. You may contact the Records Management Division for copies of the proposed collection of information at facsimile number (202) 646-3347 or email address: FEMA-Information-Collections@dhs.gov.

SUPPLEMENTARY INFORMATION: The National Flood Insurance Program (NFIP) is authorized by Public Law 90-448 (1968) and expanded by Public Law 93-234 (1973). The National Flood Insurance Act of 1968 requires that the Federal Emergency Management Agency (FEMA) provide flood insurance. Title 44 CFR 60.3, Floodplain management criteria for flood-prone areas, ensures that communities participating in the NFIP, in Special Flood Hazard Areas (SFHAs), have basement construction at the lowest floor elevation or above the 100 year flood elevation, or Base Flood Elevation. This requirement is to reduce the risks of flood hazards to new buildings in SFHAs and reduce insurance rates. Title 44 CFR 60.6(c) allows communities to apply for an exception to permit and certify the construction of flood proof residential basements in SFHAs. This certification must ensure that the community has demonstrated that the areas of special flood hazard, in which residential basements will be permitted, are subject to shallow and low velocity flooding and adequate flood warning time to notify residents of impending floods.

Collection of Information

Title: Residential Basement Flood Proofing Certification.

Type of Information Collection: Revision of a currently approved information collection.

OMB Number: 1660-0033.

Form Titles and Numbers: FEMA Form 086-0-24, Residential Basement Floodproofing Certificate.

Abstract: The Residential Basement Floodproofing Certification is required to receive an exception by FEMA to allow construction of residential basements in Special Flood Hazard areas. Homeowners must provide the information required by the form for this collection so that assurance is provided that the basement design and methods of construction are in accordance with floodplain management ordinances. Homeowners who receive this certification are granted discounts on their flood insurance premiums.

Affected Public: Business or other for-profit.

Estimated Total Annual Burden Hours: 325 Hours.

Type of respondent | Form name/form number | No. of respondents | No. of responses per respondent | Total No. of responses | Avg. burden per response (in hours) | Total annual burden (in hours) | Avg. hourly wage rate* | Total annual respondent cost
Business or other for-profit | Residential Basement Floodproofing Certificate/FEMA Form 086-0-24 | 100 | 1 | 100 | 3.25 | 325 | $48.08 | $15,626
Total |  | 100 |  | 100 |  | 325 |  | 15,626

Estimated Cost: The estimated annual and maintenance cost to respondents for this collection is estimated to be $35,000. There are no capital or start-up costs for this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 23, 2010.
Larry Gray,
Director, Records Management Division, Mission Support Bureau, Federal Emergency Management Agency, Department of Homeland Security.

[FR Doc. 2010-6853 Filed 3-26-10; 8:45 am]

BILLING CODE 9110-11-P